DEPARTMENT OF ENERGY

Federal Energy Regulatory Commission

[Docket No. RP99-355-003]

Baltimore Gas and Electric Company; Notice for Extension of Waiver and Request for Expedited Consideration

October 12, 2000.

Take notice that on October 3, 2000, Baltimore Gas and Electric (BGE) tendered for filing a request to extend BGE's current “shipper must have title” policy waiver and a request for expedited consideration.

BGE requests an effective date of November 1, 2000, for the extended waiver.

BGE states that copies of the filing have been served on Columbia Gas Transmission Corporation and Dominion Transmission, Inc. (formerly CNG Transmission Corporation).

Any person desiring to protest said filing should file a protest with the Federal Energy Regulatory Commission, 888 First Street, NE., Washington, DC 20426, in accordance with Section 385.211 of the Commission's Rules and Regulations. All such protests must be filed on or before October 19, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-26680 Filed 10-17-00; 8:45 am]

BILLING CODE 6717-01-M